DEPARTMENT OF THE INTERIOR

Bureau of Land Management

Notice of Proposed Reinstatement of Terminated Oil and Gas Lease CACA 38084

AGENCY: Bureau of Land Management, Interior.

ACTION: Notice of reinstatement of terminated oil and gas lease.

SUMMARY: Under the provisions of Section 371(a) of the Energy Policy Act of 2005, the lessee, North American Civil Recoveries Arbitrage Corporation (NACRA) timely filed a petition for reinstatement of oil and gas lease CACA 38084 in (Santa Barbara and Ventura County, California. The lessee paid the required rental accruing from the date of termination, June 1, 2002.

No leases were issued that affect these lands. The lessee agrees to new lease terms for rentals and royalties of $5 per acre and 16⅔ percent or 4 percentages above the existing competitive royalty rate. The lessee paid the $500 administration fee for the reinstatement of the lease and $155 cost for publishing this Notice.

The lessee met the requirements for reinstatement of the lease per Sec. 31(e) of the Mineral Leasing Act of 1920 (30 U.S.C. 188(e)). We are proposing to reinstate the lease, effective the date of termination subject to:

• The original terms and conditions of the lease;

• The increased rental of $5 per acre;

• The increased royalty of 16⅔ percent or 4 percentages above the existing competitive royalty rate; and

• The $155 cost of publishing this Notice

FOR FURTHER INFORMATION CONTACT: Bonnie J. Edgerly, Land Law Examiner, Branch of Adjudication, Division of Energy & Minerals, BLM California State Office, 2800 Cottage Way, STE W-1834, Sacramento, California 95825, (Ph: 916-978-4370).

Dated: December 13, 2005.
Debra Marsh,
Supervisor, Branch of Adjudication, Division of Energy and Minerals.

[FR Doc. E5-7651 Filed 12-21-05; 8:45 am]

BILLING CODE 4310-40-P